DEPARTMENT OF ENERGY

Federal Energy Regulatory Commission

Combined Notice of Filings

Take notice that the Commission has received the following Natural Gas Pipeline Rate and Refund Report filings:

Filings Instituting Proceedings

Docket Numbers: RP14-1195-000.

Applicants: Sierrita Gas Pipeline LLC.

Description: Compliance filing per 154.203: Tariff Implementation and Compliance Filing to be effective 12/31/9998.

Filed Date: 8/21/14.

Accession Number: 20140821-5081.

Comments Due: 5 p.m. ET 9/2/14.

Docket Numbers: RP14-1197-000.

Applicants: Midcontinent Express Pipeline LLC.

Description: § 4(d) rate filing per 154.204: Enable Energy Negotiated Rate to be effective 8/1/2014.

Filed Date: 8/22/14.

Accession Number: 20140822-5110.

Comments Due: 5 p.m. ET 9/3/14.

Docket Numbers: RP14-1198-000.

Applicants: Eastern Shore Natural Gas Company.

Description: Compliance filing per 154.203: White Oak Lateral DLFT and DLIT Tariff Revisions to be effective 8/22/2014.

Filed Date: 8/22/14.

Accession Number: 20140822-5122.

Comments Due: 5 p.m. ET 9/3/14.

Docket Numbers: RP14-1199-000.

Applicants: Rockies Express Pipeline LLC.

Description: § 4(d) rate filing per 154.204: Neg Rate Amendment 2014-08-20 MFNs to be effective 7/1/2014.

Filed Date: 8/22/14.

Accession Number: 20140822-5147.

Comments Due: 5 p.m. ET 9/3/14.

Docket Numbers: RP14-1200-000.

Applicants: Destin Pipeline Company, L.L.C.

Description: Petition for Approval of Stipulation and Agreement of Settlement of Destin Pipeline Company, L.L.C.

Filed Date: 8/25/14.

Accession Number: 20140825-5072.

Comments Due: 5 p.m. ET 9/8/14.

Docket Numbers: RP14-1201-000.

Applicants: Kinder Morgan Louisiana Pipeline LLC.

Description: § 4(d) rate filing per 154.204: Removal of Terminated Agreement to be effective 8/16/2014.

Filed Date: 8/25/14.

Accession Number: 20140825-5147.

Comments Due: 5 p.m. ET 9/8/14.

The filings are accessible in the Commission's eLibrary system by clickling on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2014.
Nathaniel J. Davis, Sr.,
Deputy Secretary.

[FR Doc. 2014-20850 Filed 9-2-14; 8:45 am]

BILLING CODE 6717-01-P